DEPARTMENT OF TRANSPORTATION

Maritime Administration

[Docket No. MARAD-2002-13067]

Requested Non-availability Waiver

AGENCY: Maritime Administration, Department of Transportation (“MARAD”, “we”, “us” or “our”).

ACTION: Notice of termination of consideration of requested administrative finding under the Merchant Marine Act of 1936, as amended, (Act) to allow cargo carriage by a non-qualified U.S.-flag vessel in the absence of available qualified U.S.-flag vessels.

SUMMARY: The Act (46 App. U.S.C. 1241(b)), requires that at least 50 percent of Government-sponsored cargoes (75 percent with regard to certain agricultural exports) transported on ocean-going vessels be transported on certain U.S.-flag vessels when such vessels are available at a fair and reasonable rate for U.S.-flag commercial vessels. The statute excludes from eligibility to carry such cargoes foreign built or foreign rebuilt vessels or vessels previously registered under a foreign flag, unless the vessel has been registered under the United States flag for at least three years. Implicit in the statute is that, upon a finding by MARAD that U.S.-flag privately owned commercial vessels are not available for a fair and reasonable rate for U.S.-flag vessels, a foreign-flag may be used.

The Government of Israel, Ministry of Defense (GOI-MOD) purchases jet fuel from the Defense Security Cooperative Agency (DSCA) under the Foreign Military Sales Program. The cargo is subject to the Act, which requires 50 percent U.S.-flag carriage, but longstanding U.S. Government policy set forth in the DSCA manual requires 100 percent U.S.-flag carriage. GOI-MOD has expressed a concern that qualified U.S.-flag vessels may not be available in 2004 and beyond, due to many U.S.-flag tankers being retired under the Oil Pollution Act of 1990. GOI-MOD requested that MARAD allow future use of U.S.-flag vessels which have not met the three year wait requirement to carry preference cargo only when no fully qualified U.S.-flag vessel is available, thus meeting the U.S.-flag requirement and providing employment for U.S. citizen mariners.

We published a notice on August 13, 2002, 67 FR 52771, inviting comments in this docket on how we should respond to this innovative suggestion. The preponderance of comments urged us to delay taking any action because the requested finding would not be needed, if at all, until 2003. Other comments supported and opposed the request altogether. After review of these and other comments received, we will not take any action at this time.

ADDRESSES: Comments are not solicited, but if you so desire, you may submit comments. Comments should refer to docket number MARAD-2002-13067. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Thomas W. Harrelson, Director, Office of Cargo Preference, MAR-580 Room 8118, 400 7th St., SW., Washington, DC 20590. Telephone no. (202) 366-5515.

Dated: November 27, 2002.
By Order of the Maritime Administrator.
Joel C. Richard,
Secretary, Maritime Administration.

[FR Doc. 02-30586 Filed 12-2-02; 8:45 am]

BILLING CODE 4910-81-P